DEPARTMENT OF AGRICULTURE

Forest Service

DEPARTMENT OF THE INTERIOR

Office of the Secretary

RIN 0596-AB99

National Environmental Policy Act Documentation Needed for Fire Management Activities; Categorical Exclusions; Extension of Comment Period

AGENCY: Forest Service, USDA; Office of the Secretary, Interior.

SUMMARY: This notice extends the comment period for the proposed categorical exclusions described under SUPPLEMENTARY INFORMATION.

DATES: Comments must be received on or before January 31, 2003.

ADDRESSES: Mail written comments to: Healthy Forests Initiative, USDA FS Content Analysis Team, P.O. Box 221150, Salt Lake City, Utah 84116.

Comments also may be submitted via facsimile to (801) 517-1015 or by e-mail to healthyforests@fs.fed.us. If comments are sent via facsimile or e-mail, the public is requested not to send duplicate written comments via regular mail.

All comments, including names and addresses when provided, are placed in the record and are available for public inspection. Persons wishing to inspect the comments need to call (801) 517-1020 to facilitate an appointment.

FOR FURTHER INFORMATION CONTACT: Dave Sire, USDA Forest Service, Ecosystem Management Coordination, (202) 205-2935, or Willie Taylor, Department of the Interior, Office of Environmental Policy and Compliance, (202) 208-3891. Individuals who use telecommunication devices for the deaf (TDD) may call the Federal Information Relay Service (FIRS) at 1-800-877-8339 between 8 a.m. and 4 p.m., eastern standard time, Monday through Friday.

SUPPLEMENTARY INFORMATION: On Monday, December 16, 2002, the Department of Agriculture, Forest Service and the Department of the Interior published two proposed categorical exclusion under the National Environmental Policy Act, 67 FR 77038, concerning fire management activities. The deadline for receipt of comments was January 15, 2003. The comment period is extended for sixteen days to allow additional time for comment on the proposed categorical exclusions. Comments must be received on or before January 31, 2003.

For the Forest Service, U.S. Department of Agriculture.
Dated: January 13, 2003.
Sally D. Collins,
Associate Chief.
Dated: January 13, 2003.
Christopher B. Kearney,
Deputy Assistant Secretary for Policy and International Affairs.

[FR Doc. 03-1060 Filed 1-14-03; 9:26 am]

BILLING CODE 3410-11 and 4310-70-M